MORRIS K. UDALL SCHOLARSHIP AND EXCELLENCE IN NATIONAL ENVIRONMENTAL POLICY FOUNDATION

Notice of Federal Advisory Committee Meeting

AGENCY: U.S. Institute for Environmental Conflict Resolution, Morris K. Udall Foundation.

ACTION: Notice of meeting.

SUMMARY: The National Environmental Conflict Resolution (ECR) Advisory Committee, of the U.S. Institute for Environmental Conflict Resolution, will conduct a public meeting on Wednesday and Thursday, November 12-13, 2003, at the Westward Look Resort, 245 Ina Road, Tucson, Arizona 85704. The meeting will occur from 8 a.m. to approximately 5 p.m. on November 12, and from 8 a.m. to approximately noon on November 13.

Members of the public may attend the meeting in person. Seating is limited and is available on a first-come, first-served basis. During this meeting, the Committee will discuss: Committee organizational details; environmental conflict resolution (ECR) processes in connection with Section 101 of the National Environmental Policy Act (NEPA); best practices in ECR; reports of subcommittees on NEPA Section 101, best practices, and affected communities; and planning for future Committee work.

Members of the public may make oral comments at the meeting or submit written comments. In general, each individual or group making an oral presentation will be limited to five minutes, and total oral comment time will be limited to one-half hour each day. Written comments may be submitted by mail or by e-mail to gargus@ecr.gov. Written comments received in the Institute office far enough in advance of a meeting may be provided to the Committee prior to the meeting; comments received too near the meeting date to allow for distribution will normally be provided to the Committee at the meeting. Comments submitted during or after the meeting will be accepted but may not be provided to the Committee until after that meeting.

FOR FURTHER INFORMATION CONTACT: Any member of the public who desires further information concerning the meeting or wishes to submit oral or written comments should contact Tina Gargus, Special Projects Coordinator, U.S. Institute for Environmental Conflict Resolution, 130 S. Scott Avenue, Tucson, AZ 85701; phone (520) 670-5299, fax (520) 670-5530, or e-mail at gargus@ecr.gov. Requests to make oral comments must be in writing (or by e-mail) to Ms. Gargus and be received no later than 5 p.m. Mountain Standard Time on Tuesday, November 4, 2003. Copies of the draft meeting agenda may be obtained from Ms. Gargus at the address, phone and e-mail address listed above.

Dated: October 17, 2003.
Christopher L. Helms,
Executive Director, Morris K. Udall Scholarship and Excellence in National Environmental Policy Foundation, and Federal Register Liaison Officer.

[FR Doc. 03-26622 Filed 10-21-03; 8:45 am]

BILLING CODE 6820-FN-P